DEPARTMENT OF STATE

[Public Notice 3633]

Bureau for International Narcotics and Law Enforcement Affairs Anti-Domestic Violence and Trafficking in Persons Training and Technical Assistance Program

SUMMARY: The Office of Europe, NIS, and Training (INL/ENT) announces an open competition for a two-year assistance award program to increase professionalism and improve the technical capabilities of law enforcement institutions to develop prevention and early intervention strategies to combat domestic violence and trafficking in persons while protecting the human rights victims. This program includes the participation of institutions with relevant training experience (e.g., universities and non-profit organizations) in the delivery of Anti-Domestic Violence and Trafficking in Persons training and technical assistance to prosecutors, judges, police, NGOs, and shelters in Russia, Ukraine, Armenia, Moldova, and Kazakhstan. Applicants may submit a budget of up to $500,000. Cost share is encouraged, but not mandatory.

Application packages are due Thursday, May 10, 2001. Interested applicants may obtain detailed application instructions from the following web site: www.statebuy.gov; click on grant opportunities.

For questions, please contact: Linda Gower, Grants Officer, INL/RM/MS, Department of State, Navy Hill South, 2430 E Street, NW., Washington, DC 20520, Tel. 202-766-8774.

Dated: April 3, 2001.
Timothy E. Henderson,
Chief, Management Systems Division, Department of State.

[FR Doc. 01-8647 Filed 4-6-01; 8:45 am]

BILLING CODE 4710-17-U